DEPARTMENT OF HEALTH AND HUMAN SERVICES

Food and Drug Administration

[Docket No. FDA-2011-N-0002]

Advisory Committees; Tentative Schedule of Meetings for 2012

AGENCY: Food and Drug Administration, HHS.

ACTION: Notice.

SUMMARY: The Food and Drug Administration (FDA) is announcing a tentative schedule of forthcoming meetings of its public advisory committees for 2012. During 1991, at the request of the Commissioner of Food and Drugs (the Commissioner), the Institute of Medicine (the IOM) conducted a study of the use of FDA's advisory committees. In its final report, one of the IOM's recommendations was for the Agency to publish an annual tentative schedule of its meetings in the Federal Register. This publication implements the IOM's recommendation.

FOR FURTHER INFORMATION CONTACT: Teresa L. Hays, Advisory Committee Oversight and Management Staff, Food and Drug Administration, 10903 New Hampshire Ave., Bldg. 32, Rm. 5290, Silver Spring, MD 20993, (301) 796-8220.

SUPPLEMENTARY INFORMATION: The IOM, at the request of the Commissioner, undertook a study of the use of FDA's advisory committees. In its final report in 1992, one of the IOM's recommendations was for FDA to adopt a policy of publishing an advance yearly schedule of its upcoming public advisory committee meetings in the Federal Register; FDA has implemented this recommendation. The annual publication of tentatively scheduled advisory committee meetings will provide both advisory committee members and the public with the opportunity, in advance, to schedule attendance at FDA's upcoming advisory committee meetings. Because the schedule is tentative, amendments to this notice will not be published in the Federal Register. However, changes to the schedule will be posted on the FDA advisory committees' Internet site located at http://www.fda.gov/AdvisoryCommittees/default.htm. FDA will continue to publish a Federal Register notice 15 days in advance of each upcoming advisory committee meeting, to announce the meeting (21 CFR 14.20).

The following list announces FDA's tentatively scheduled advisory committee meetings for 2012.

Table 1
Committee name | Tentative date(s) of meeting(s)
OFFICE OF THE COMMISSIONER
Pediatric Advisory Committee | January 30-31, May & December date(s), if needed, to be determined.
Risk Communication Advisory Committee | February 13-14, April 30, May 1, August 16-17, November 1-2.
Science Board to FDA | January 6, May 2, October 3.
CENTER FOR BIOLOGICS EVALUATION AND RESEARCH
Allergenic Products Advisory Committee | April 18, October 18.
Blood Products Advisory Committee | February 28-29, May 15-16, July 31-August 1, December 4-5.
Cellular, Tissue and Gene Therapies Advisory Committee | February 9-10, June 27-28, November 29-30.
Transmissible Spongiform Encephalopathies Advisory Committee | Date(s), if needed, to be determined.
Vaccines and Related Biological Products Advisory Committee | February 28-29, May 16-17, September 19-20, November 14-15.
CENTER FOR DRUG EVALUATION AND RESEARCH
Anesthetic and Analgesic Drugs Advisory Committee (formerly the Anesthetic and Life Support Drugs Advisory Committee) | February 9.
Anti-Infective Drugs Advisory Committee | Date(s), if needed, to be determined.
Antiviral Drugs Advisory Committee | May 16-17.
Arthritis Advisory Committee | March 12.
Cardiovascular and Renal Drugs Advisory Committee | February 23.
Dermatologic and Ophthalmic Drugs Advisory Committee | February 27.
Drug Safety and Risk Management Advisory Committee | Date(s), if needed, to be determined.
Endocrinologic and Metabolic Drugs Advisory Committee | February 22, March 28-29.
Gastrointestinal Drugs Advisory Committee | March 13-14.
Medical Imaging Drugs Advisory Committee | Date(s), if needed, to be determined.
Nonprescription Drugs Advisory Committee | Date(s), if needed, to be determined.
Oncologic Drugs Advisory Committee | February 8-9, March 20-21, June 20-21, July 24-25, September 12-13, November 6-7, December 4-5.
Peripheral and Central Nervous System Drugs Advisory Committee | Date(s), if needed, to be determined.
Advisory Committee for Pharmaceutical Science and Clinical Pharmacology | March 14.
Psychopharmacologic Drugs Advisory Committee | Date(s), if needed, to be determined.
Pulmonary-Allergy Drugs Advisory Committee | February 23-24.
Advisory Committee for Reproductive Health Drugs | January 20, April 5.
CENTER FOR DEVICES AND RADIOLOGICAL HEALTH
Medical Devices Advisory Committee (Comprised of 18 Panels)
Device Good Manufacturing Practices Advisory Committee | Date(s), if needed, to be determined.
Anesthesiology and Respiratory Therapy Devices Panel | June 8, November 16.
Circulatory System Devices Panel | Date(s), if needed, to be determined.
Clinical Chemistry and Clinical Toxicology Devices Panel | April 20, July 18-19, September 20-21.
Dental Products Panel | Date(s), if needed, to be determined.
Ear, Nose, and Throat Devices Panel | Date(s), if needed, to be determined.
Gastroenterology-Urology Devices Panel | July 13.
General and Plastic Surgery Devices Panel | July 17.
General Hospital and Personal Use Devices Panel | August 16-17.
Hematology and Pathology Devices Panel | June 28.
Immunology Devices Panel | Date(s), if needed, to be determined.
Medical Devices Dispute Resolution Panel | Date(s), if needed, to be determined.
Microbiology Devices Panel | Date(s), if needed, to be determined.
Molecular and Clinical Genetics Panel | June 27.
Neurological Devices Panel | Date(s), if needed, to be determined.
Obstetrics and Gynecology Devices Panel | July 5-6.
Ophthalmic Devices Panel | November 8-9.
Orthopedic and Rehabilitation Devices Panel | September 13-14, November 16, December 6-7.
Radiological Devices Panel | November 2.
National Mammography Quality Assurance Advisory Committee | October 18.
Technical Electronic Product Radiation Safety Standards Committee | June 14.
CENTER FOR FOOD SAFETY AND APPLIED NUTRITION
Food Advisory Committee | December 13-14.
CENTER FOR TOBACCO PRODUCTS
Tobacco Products Scientific Advisory Committee | January 18-20, March 1-2.
CENTER FOR VETERINARY MEDICINE
Veterinary Medicine Advisory Committee | Date(s), if needed, to be determined.
NATIONAL CENTER FOR TOXICOLOGICAL RESEARCH (NCTR)
Science Advisory Board to NCTR | October 23-24.

Dated: December 14, 2011.
Jill Hartzler Warner,
Acting Associate Commissioner for Special Medical Programs.

[FR Doc. 2011-32469 Filed 12-19-11; 8:45 am]

BILLING CODE 4160-01-P